DEPARTMENT OF DEFENSE

Department of the Army

Privacy Act of 1974; System of Records

AGENCY: Department of the Army, DOD.

ACTION: Notice to alter a system of records.

SUMMARY: The Department of the Army is proposing to consolidate three systems of records under one notice. As a result of the consolidation, two routine uses are being added to the system of records. The routine uses will permit the disclosure of information to the Federal Aviation Administration to obtain flight certification/ licensing; and to the Department of Veterans Affairs.

DATES: This proposed action will be effective without further notice on June 11, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on April 3, 2001, to the House Committee on Government Reform, the Senate Committee on Governmental Affairs, and the Office of Management and Budget (OMB) pursuant to paragraph 4c of Appendix I to OMB Circular No. 1-130, “Federal Agency Responsibilities for Maintaining Records About Individuals,” dated February 8, 1996 (February 20, 1996, 61 FR 6427).

Dated: May 3, 2001.
L.M. Bynum,
Alternate OSD Federal Register Liaison Officer, Department of Defense.

Deletions:

A0145-1a TRADOC-ROTC

System name:

ROTC Applicant/Member Records (July 15, 1997, 62 FR 37894).

Reason:

Records are now covered under A0145-1 TRADOC, Army Reserve Officer's Training Corps (ROTC) and Financial Assistance Programs.

A0145-1b TRADOC-ROTC

System name:

ROTC Financial Assistance (Scholarship) Application File (July 15, 1997, 62 FR 37895).

Reason:

Records are now covered under A0145-1 TRADOC, Army Reserve Officer's Training Corps (ROTC) and Financial Assistance Programs.

Alteration:

A0145-1 TRADOC

System name:

Army Reserve Officer's Training Corps Gold QUEST Referral System (July 15, 1997, 62 FR 37893).

Changes:

* * * * *

System name:

Delete entry and replace with ‘Army Reserve Officer's Training Corps (ROTC) and Financial Assistance Programs’.

System location:

Delete entry and replace with ‘MCS, Incorporated, 10041 Polinski Road, Ivyland, PA 18974-9872; Headquarters, U.S. Army Reserve Officer's Training Corps Cadet Command, 56 Patch Road, Fort Monroe, VA 23651-5000; U.S. Army Personnel Command, 200 Stovall Street, Alexandria, VA 22332-0400; offices of the Professor of Military Science at civilian institutions in ROTC regional offices; ROTC Cadet Battalions and Reserve Officers Training Corps Brigade Recruiting Teams Officer's Training Corps Goldminer Teams. Official mailing addresses are published as an appendix to the Army's compilation of system of records notices.’

Categories of individuals covered by the system:

Delete entry and replace with ‘Individuals who apply and are accepted into the Army ROTC program; potential enrollees in the Senior ROTC program; and individuals who desire to participate in the Army ROTC Financial Assistance (Scholarship Program).’

Categories of records in the system:

Delete entry and replace with ‘Records include individual applications and/or prospect referrals for appointment which include such personal data as name, Social Security Number; sex, date and place of birth, citizenship; home address, telephone number; marital status, dependents, name of high school, high school graduation date, grade point average; Scholastic Assessment Test, American College Testing, Preliminary Scholastic Assessment Testing scores; college admission status; college(s) expected to attend, desired academic major(s); academic transcripts and certificates of education to prior military service information, training, college board scores and test results; medical examination, acceptance/declination, interview board results; financial assistance document awards, ROTC contract and evaluation from Professor of Military Science commanding officer; photographs, references; correspondence between the member and the Army or other Federal agencies, letters of recommendation, inquiries regarding applicant's selection or nonselection, letter of appointment in Active Army on completion of ROTC status; Security clearance documents, reports of Reserve Officer Training Corps Advanced, Ranger, or Basic Camp performance of applicant.’

Authorities for maintenance of the system:

Delete entry and replace with ‘10 U.S.C. 2101-2111, Reserve Officer Training Corps, and 10 U.S.C. 3013, Secretary of the Army, Army Regulation 145-1, Senior Reserve Officer's Training Corps Program: Organization, Administration, and Training; Army Regulation 145-2, Junior Reserve Officer's Training Corps Program: Organization, Administration and Training, and E.O. 9397 (SSN).’

Purpose(s):

Delete entry and replace with ‘To provide a central database of potential prospects for enrollment in the ROTC and the Senior Army ROTC program, provide training and commissioning of eligible cadets in active Army and to assist prospects by providing information concerning educational institutions having ROTC programs; scholarship information and applications, information on specialized programs such as Nursing, Green to Gold and historically Black Colleges and Universities information regarding other Army enlistment, reserve or National Guard programs. System renders personnel management, recruitment management, information reports, and refers qualified prospects to a Professor of Military Science at or near their college(s) of choice, strength and manpower management accounting. Also administers the financial assistance program; renders the selection of recipients for 2, 3, and 4 year scholarships; monitor selectees performance (academic and ROTC) and also develop policies and procedures, compile statistics and renders reports.’

Routine uses of records maintained in the system, including categories of users and the purposes of such uses:

Add two new paragraphs ‘To the Federal Aviation Administration to obtain flight certification and/or licensing.

To the Department of Veterans Affairs for member Group Life Insurance and/or other benefits.’

Add a new category ‘Disclosure to consumer reporting agencies: Disclosures pursuant to 5 U.S.C. 522a(b)(12) may be made from this system to ‘consumer reporting agencies’ as defined in the Fair Credit Reporting Act (14 U.S.C. 1681a(f)) or the Federal Claims Collection Act of 1966 (31 U.S.C. 3701(a)(3)). The purpose of this disclosure is to aid in the collection of outstanding debts owed to the Federal government; typically to provide an incentive for debtors to repay delinquent Federal government debts by making these debts part of their credit records.

This disclosure is limited to information necessary to establish the identity of the individual, including name, address, and taxpayer identification number (Social Security Number); the amount, status, and history of the claim; and the agency or program under which the claim arose for the sole purpose of allowing the consumer reporting agency to prepare a commercial credit report.

Storage:

Delete entry and replace with ‘electronic storage media and paper records in file folders in secured cabinets.’

* * * * *

Retention and disposal:

Delete entry and replace with ‘Cadet Command Form 139 is retained in the ROTC unit for 5 years after cadet leaves the institution or is disenrolled from the ROTC program. Following successful completion of ROTC and academic programs and appointment as a commissioned officer with initial assignment to active duty for training, copy of pages 1 and 2 are reproduced and sent to the commandant of individual's basic branch course school. Records of rejected ROTC applicants are destroyed. Other records mentioned in preceding paragraphs are immediately destroyed unless the records are for financial assistance which are retained for 1 year then destroyed or if they are not required to become part of individual's Military Personnel Records jacket. ROTC QUEST records are retained for 3 years then destroyed. ROTC Scholarship application records are destroyed 1 year after graduation or disenrollment.’

* * * * *

Record source categories:

Delete entry and replace with ‘Source categories can be used for all areas covered in this system, however, the retrieval of this information is limited only to specific areas of interest and specialty: Prospects include the Army ROTC toll-free telephone number, magazines, newspapers, poster advertising coupons, mail-back reply cards, letters, walk-ins, referrals from parents, relatives, civilian educational institutions and staff, friends, associates, college registrars, dormitory directors, national testing organizations, honor societies, boys' clubs, boy scout organizations, Future Farmers of America, minority and civil rights organizations, fraternity and church organizations; neighborhood youth centers, YMCA, YWCA, social clubs, athletic clubs, boys state/girls state/scholarship organizations, U.S. Army Recruiting Command, Military Academy Liaison officers, West Point non-select listing, previous employers, trade organizations, military service, and other organizations and commands comprising the Department of Defense, Army records, addressing entitlement status, medical examination and treatment, security determination and attendance and training information while ROTC cadet.’

* * * * *

A0145-1 TRADOC

System name:

Army Reserve Officer's Training Corps (ROTC) and Financial Assistance Programs.

system location:

MCS, Incorporated, 10041 Polinski Road, Ivyland, PA 18974-9872; Headquarters, U.S. Army Reserve Officer's Training Corps Cadet Command, 56 Patch Road, Fort Monroe, VA 23651-5000; U.S. Army Personnel Command, 200 Stovall Street, Alexandria, VA 22332-0400; offices of the Professor of Military Science at civilian institutions in ROTC regional offices; ROTC Cadet Battalions and Reserve Officers Training Corps Brigade Recruiting Teams and Reserve Officer's Training Corps Goldminer Teams. Official mailing addresses are published as an appendix to the Army's compilation of system of records notices.

Categories of individuals covered by the system:

Individuals who apply and are accepted into the Army ROTC program; potential enrollees in the Senior ROTC program; and individuals who desire to participate in the Army ROTC Financial Assistance (Scholarship Program).

Categories of records in the system:

Records include individual applications and/or prospect referrals for appointment which include such personal data as name, Social Security Number; sex, date and place of birth, citizenship; home address, telephone number; marital status, dependents, name of high school, high school graduation date, grade point average; Scholastic Assessment Test, American College Testing, preliminary Scholastic Assessment Testing scores; college admission status,; college(s) expected to attend, desired academic major(s); academic transcripts and certificates of education to prior military service information, training, college board scores and test results; medical examination, acceptance/declination, interview board results; financial assistance document awards, ROTC contract and evaluation from Professor of Military Science commanding officer; photographs, references; correspondence between the member and the Army of other Federal agencies, letters of recommendation, inquiries regarding applicant's selection or nonselection, letter of appointment in Active Army on completion of ROTC status; Security clearance documents, reports of Reserve Officer Training Corps Advanced, Ranger, or Basic Camp performance of applicant.

Authority for maintenance of the system:

10 U.S.C. 2101-2111, Reserve Officer Training Corps, and 10 U.S.C. 3013, Secretary of the Army; Army Regulation 145-1, Senior Reserve Officer's Training Corps Program: Organization, Administration, and Training; Army Regulation 145-2, Junior Reserve Officer's Training Corps Program: Organization, Administration and Training, and E.O. 9397 (SSN).

Purpose(s):

To provide a central database of potential prospects for enrollment in the ROTC and the Senior Army ROTC program, provide training and commissioning of eligible cadets in active Army and to assist prospects by providing information concerning educational institutions having ROTC programs; scholarship information and applications, information on specialized programs such as Nursing, Green to Gold and historically Black Colleges and Universities and information regarding other Army enlistment, reserve or National Guard programs. System renders personnel management, recruitment management, information reports, and refers qualified prospects to a Professor of Military Science at or near their college(s) of choice, strength and manpower management accounting. Also administers the financial assistance program; renders the selection of recipients for 2, 3, and 4 year scholarships; monitor selectees performance (academic and ROTC) and also develop policies and procedures, compile statistics and render reports.’

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

To the Federal Aviation Administration to obtain a flight certification and/or licensing.

To the Department of Veterans Affairs for member Group Life Insurance and/or other benefits.

The DoD ’Blanket Routine Uses‘ set forth at the beginning of the Army's compilation of systems or records notices also apply to this system.

Disclosure to consumer reporting agencies:

Disclosures pursuant to 5 U.S.C. 552a(b)(12) may be made from this system to ‘consumer reporting agencies’ as defined in the Fair Credit Reporting Act (15 U.S.C. 1681a(f) or the Federal Claims Collection Act of 1966 (31 U.S.C. 3701(a)(3)). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Electronic storage media and paper records in file folders in secured cabinets.

Retrievability:

By name, Social Security Number, address peculiar identification assigned or other characteristics of qualification or identity.

Safeguards:

Records maintained in secure area accessible only to authorized personnel in the performance of their duties. Automated records accessible only to authorized personnel with password capability.

Retention and disposal:

Cadet Command Form 139 is retained in the ROTC unit for 5 years after cadet leaves the institution or is disenrolled from the ROTC program. Following successful completion of ROTC and academic programs and appointment as a commissioned officer with initial assignment to active duty for training, copy of pages 1 and 2 are reproduced and sent to the commandant of individual's basic branch course school. Records of rejected ROTC applicants are destroyed. Other records mentioned in preceding paragraphs are immediately destroyed unless the records are for financial assistance which are retained for 1 year then destroyed or if they are not required to become part of individual's Military Personnel Records Jacket. ROTC QUEST records are retained for 3 years then destroyed. ROTC Scholarship application records are destroyed 1 year after graduation or disenrollment.

System manager(s) and address:

ROTC applicants and members: Commander, Fort Monroe, Information Management Officer, Building 256, Fort Monroe, VA 23651-5000.

ROTC QUEST referral applicants: Commander, Fort Monroe, Marketing Directorate, Building 57, Fort Monroe, VA 23651-5000.

ROTC financial assistance application files: Commander, Fort Monroe, Resource Management Officer, Building 256, Fort Monroe, VA 23651-6000.

Notification procedure:

Individuals seeking to determine whether information about themselves is contained in this system should address written inquiries to the Commander, U.S. Army Reserve Officers Training Corps Cadet Command, Building 56, Port Monroe, VA 23651-5000 for records on the ROTC Financial Assistance (Scholarship) Application File and ROTC Applicant/Member Records; or to the Commander, U.S. Total Army Personnel Command, 200 Stovall Street, Alexandria, VA 22332-0400 for ROTC Applicant/Member Records; or to the Commander, U.S. Army ROTC Cadet Command, Marketing Directorate, Building 57, Fort Monroe, VA 23651-5000 for ROTC QUEST Referral System records.

Individuals should provide their full name, current address, telephone number and signature.

Record access procedures:

Individuals seeking access to information about themselves contained in this system should address written inquiries to the Commander, U.S. Army Reserve Officers Training Corps Cadet Command, Building 56, Fort Monroe, VA 23651-5000; or to the Commander, U.S. Total Personnel Command, 200 Stovall Street, Alexandria, VA 22332-0400 for ROTC Applicant/Member Records; or to the Commander, U.S. Army ROTC Cadet Command, Marketing Directorate, Building 57, Fort Monroe, VA 23651-5000 for ROTC QUEST Referral System records.

Individuals should provide their full name, current address telephone number and signature.

Contesting record procedures:

The Army's rules for accessing records, contesting contents, and appealing initial agency determinations are contained in Army Regulation 340-21; 32 CFR Part 505; or may be obtained from the system manager or the Commander, U.S. Army ROTC Cadet Command, Marketing Directorate, Building 57, Fort Monroe, VA 23651-5000.

Record source categories:

Source categories can be used for all areas covered in this system, however, the retrieval of this information is limited only to specific areas of interest and specialty: prospects include the Army ROTC toll-free telephone number, magazines, newspapers, poster advertising coupons, mail-back reply cards, letters, walk-ins, referrals from parents, relatives, civilian educational institutions and staff, friends, associates, college registrars, dormitory directors, national testing organizations, honor societies, boys' clubs, boy scout organizations, Future Farmers of America minority and civil rights organizations, fraternity and church organizations; neighborhood youth centers, YMCA, YWCA, social clubs, athletic clubs, boys state/girls state/scholarship organizations, U.S. Army Recruiting Command, Military Academy Liaison officers, West point non-select listing, previous employers, trade organizations, military service, and other organizations and commands comprising the Department of Defense, Army records addressing entitlement status, medical examination and treatment, security determination and attendance and training information while ROTC cadet.

Exemptions claimed for the system:

None,

[FR Doc. 01-11761 Filed 5-9-01; 8:45 am]

BILLING CODE 5001-08-M